OFFICE OF SCIENCE AND TECHNOLOGY POLICY

Notice of Request for Information; National Strategic Plan for Advanced Manufacturing

AGENCY: Office of Science and Technology Policy (OSTP).

ACTION: Request for Information, extension of comment period.

SUMMARY: On behalf of the Subcommittee on Advanced Manufacturing of the National Science and Technology Council, the Office of Science and Technology Policy (OSTP) published a document in the Federal Register of June 20, 2025, requesting input from all interested parties on the development of a National Strategic Plan for Advanced Manufacturing. This document extends the deadline for submission of responses.

DATES: The deadline is extended to 11:59 p.m. ET on March 30, 2026.

FOR FURTHER INFORMATION CONTACT: Please email the Advanced Manufacturing National Program Office at amnpo@nist.gov (mailto:amnpo@nist.gov) or call Said Jahanmir at 301-975-0844.

SUPPLEMENTARY INFORMATION: In the Federal Register of June 20, 2025, 90 FR 26335, OSTP requested input from all interested parties on the development of a National Strategic Plan for Advanced Manufacturing. Through this Request for Information (RFI), OSTP seeks input from the public regarding Federal programs and activities to advance United States manufacturing competitiveness, including advanced manufacturing research and development that will create jobs, grow the economy across multiple industrial sectors, strengthen national security, and improve healthcare. The public input provided in response to this RFI will inform the development of the National Strategic Plan for Advanced Manufacturing. With this notice, the deadline for responses is extended to March 30, 2026.

(Authority: 42 U.S.C. 6622.)

Dated: November 24, 2025.
Stacy Murphy,
Deputy Chief Operations Officer/Security Officer.

[FR Doc. 2025-21336 Filed 11-26-25; 8:45 am]

BILLING CODE 3270-F1-P